DEPARTMENT OF THE TREASURY

Office of Foreign Assets Control

Additional Designations of Specially-Designated Nationals (“SDNs”) of the Government of Sudan

AGENCIES: Office of Foreign Assets Control, Treasury.

ACTION: Notice.

SUMMARY: The Treasury Department's Office of Foreign Assets Control (“OFAC”) is publishing the names of seven additional persons whose property and interests in property have been blocked pursuant to the Sudanese Sanctions Regulations, 31 CFR part 538.305(d). OFAC also is publishing updated identifying information for two previously-designated Sudanese persons.

DATES: Effective October 17, 2002.

FOR FURTHER INFORMATION CONTACT: Office of Foreign Assets Control, Department of the Treasury, Washington, DC 20220, tel.: (202) 622-2420.

SUPPLEMENTARY INFORMATION:

Electronic and Facsimile Availability

This document and additional information concerning OFAC are available from OFAC's Web site <http://www.treas.gov/ofac> or via facsimile through a 24-hour fax-on-demand service, tel: (202) 622-0077.

Background

Executive Order 13067 (the “Order”) imposes economic sanctions on the Government of Sudan. The Sudanese Sanctions Regulations, 31 CFR part 538.305(d), provide for designations by the Director of the Office of Foreign Assets Control (“OFAC”) of particular persons subject to the Order. On October 17, 2002, the Director of OFAC designated seven additional persons whose property and interests in property are blocked pursuant to the Order. The names of these additional persons are set forth in the list below. These persons will be added to appendix A to 31 CFR chapter V through a separate Federal Register final rule. Appendix A lists the names of persons with respect to whom transactions are subject to the various economic sanctions programs administered by OFAC.

The designations of these additional persons listed below were effective on October 17, 2002. All property and interests in property of any designated person, including but not limited to all accounts, that are or come within the United States or that are or come within the possession or control of United States persons, including their overseas branches, are blocked and may not be transferred, paid, exported, withdrawn, or otherwise dealt in, and all transactions or dealings by U.S. persons or within the United States in property or interests in property of any designated person are prohibited, unless authorized by OFAC or exempted by statute.

With respect to two persons previously designated, OFAC is publishing updated identifying information.

The list of seven additional designations follows:

National Cigarettes Co. LTD., PO Box 2083, Khartoum, Sudan, and all other branches in Sudan.

National Electricity Corporation, PO Box 1380, Khartoum, Sudan.

Posts and Telegraphs Public Corporation, Khartoum, Sudan.

Sudan National Broadcasting Corporation (a.k.a. Sudan Radio & TV Corp.; a.k.a. Sudan T.V. Corporation), PO Box 1094, Omdurman, Sudan.

Sudan Tea Company, Ltd., PO Box 1219, Khartoum, Sudan.

Sudanese Free Zones and Markets Company (a.k.a. SFZ), PO Box 1789, Khartoum, Sudan; Chad; Saudi Arabia; Turkey; UAE.

Sudanese Petroleum Corporation, 7th Floor, Al Kuwaitiah Building, El Nile Street, Khartoum, Sudan.

Updated identifying information for two previously-designated persons follows:

Kordofan Automobile Company, PO Box 97, Khartoum, Sudan-to-Kordofan Automobile Company (a.k.a. Coptrade Eng and Automobile Services CO LTD.), PO Box 97, Khartoum, Sudan.

Sugar and Distilling Corporation, New Mustafa el Amin Building, Barlaman Avenue, PO Box 511, Khartoum, Sudan-to-Sugar and Distilling Corporation (a.k.a. Sugar and Distilling Industry Corporation), New Mustafa el Amin Building, Barlaman Avenue, PO Box 511, Khartoum, Sudan.

Dated: April 23, 2003.
R. Richard Newcomb,
Director, Office of Foreign Assets Control.
Approved: April 24, 2003.
Juan C. Zarate,
Deputy Assistant Secreteary (Terrorist Financing and Financial Crimes), Department of the Treasury.

[FR Doc. 03-12298 Filed 5-14-03; 12:44 am]

BILLING CODE 4810-25-P